Presidential Determination No. 2007-14 of February 28, 2007

Presidential Determination Under Section 490(b)(1)(A) of the Foreign Assistance Act Relating to the Largest Exporting and Importing Countries of Certain Precursor Chemicals

Memorandum for the Secretary of State

Pursuant to section 490(b)(1)(A) of the Foreign Assistance Act, I hereby determine that the top five exporting and importing countries of pseudoephedrine and ephedrine in 2005 (Belgium, China, Germany, India, Indonesia, Mexico, Singapore, South Africa, South Korea, Switzerland, Taiwan, and the United Kingdom) have cooperated fully with the United States or have taken adequate steps on their own to achieve full compliance with the goals and objectives established by the United Nations Convention Against Illicit Traffic in Narcotic Drugs and Psychotropic Substances.

You are directed to publish this determination in the Federal Register, and are authorized and directed to transmit to the Congress the report under section 722 of the Combat Methamphetamine Epidemic Act.

[FR Doc. 07-1154

Filed 3-8-07; 8:45 am]

Billing code 4710-10-P